INTERNATIONAL TRADE COMMISSION

[USITC SE-01-003]

Sunshine Act Meeting

AGENCY HOLDING THE MEETING: United States International Trade Commission.

TIME AND DATE: January 22, 2001 at 2:00 p.m.

PLACE: Room 101, 500 E Street SW, Washington, DC 20426, Telephone: (202) 205-2000.

STATUS: Open to the public.

MATTERS TO BE CONSIDERED: 1. Agenda for future meeting: none.

2. Minutes.

3. Ratification List.

4. Inv. Nos. 701-TA-409-412 and 731-TA-909-912 (Preliminary) (Low-Enriched Uranium from France, Germany, the Netherlands, and the United Kingdom)—briefing and vote. (The Commission is currently scheduled to transmit its determination to the Secretary of Commerce on January 22, 2001; Commissioners' opinions are currently scheduled to be transmitted to the Secretary of Commerce on January 29, 2001.)

5. Outstanding action jackets:

(1) Document No. GC-00-100: Concerning Inv. No. 337-TA-432 (Certain Semiconductor Chips with Minimized Chip Package Size and Products Containing Same).

(2) Document No. INV-00-223: Approval of final report in Inv. No. TA-204-3 (Lamb Meat).

In accordance with Commission policy, subject matter listed above, not disposed of at the scheduled meeting, may be carried over to the agenda of the following meeting.

Issued: January 12, 2001.
By order of the Commission:
Donna R. Koehnke,
Secretary.

[FR Doc. 01-1695 Filed 1-16-01; 3:47 pm]

BILLING CODE 7020-02-P